DEPARTMENT OF ENERGY

Federal Energy Regulatory Commission

Combined Notice of Filings

Take notice that the Commission has received the following Part 284 Natural Gas Pipeline Rate filings:

Filings Instituting Proceedings

Docket Number: PR16-37-000.

Applicants: Moss Bluff Hub, LLC.

Description: Tariff filing per 284.123(e)/.224: Update Nomination Cycles to be effective 4/1/2016; Filing Type: 770.

Filed Date: 3/31/16.

Accession Number: 201603315060.

Comments/Protests Due: 5 p.m. ET 4/21/16.

Docket Number: PR16-38-000.

Applicants: Centana Intrastate Pipeline, LLC.

Description: Tariff filing per 284.123(e)/.224: CIPCO SOC Nominations Time Change Filing to be effective 4/1/2016; Filing Type: 770.

Filed Date: 4/1/16.

Accession Number: 201604015003, http://elibrary.ferc.gov/idmws/doc_info.asp?accession_num=20160331-5060.

Comments/Protests Due: 5 p.m. ET 4/22/16.

Docket Number: PR16-39-000.

Applicants: DCP Guadalupe Pipeline, LLC.

Description: Tariff filing per 284.123(e)/.224: Guadalupe SOC Nominations Time Change Filing to be effective 4/1/2016; Filing Type: 770.

Filed Date: 4/1/16.

Accession Number: 201604015004, http://elibrary.ferc.gov/idmws/doc_info.asp?accession_num=20160331-5060.

Comments/Protests Due: 5 p.m. ET 4/22/16.

Docket Number: PR16-40-000.

Applicants: Pelico Pipeline, LLC.

Description: Tariff filing per 284.123(e)/.224: Pelico SOC Nominations Time Change Filing to be effective 4/1/2016; Filing Type: 770.

Filed Date: 4/1/16.

Accession Number: 201604015005, http://elibrary.ferc.gov/idmws/doc_info.asp?accession_num=20160331-5060.

Comments/Protests Due: 5 p.m. ET 4/22/16.

Docket Number: PR16-41-000.

Applicants: DCP Raptor Pipeline, LLC.

Description: Tariff filing per 284.123(e)/.224: Raptor SOC Nominations Time Change Filing to be effective 4/1/2016; Filing Type: 770.

Filed Date: 4/1/16.

Accession Number: 201604015006.

Comments/Protests Due: 5 p.m. ET 4/22/16.

Docket Number: PR16-42-000.

Applicants: EasTrans, LLC.

Description: Tariff filing per 284.123(e)/.224: EasTrans SOC Nominations Time Change Filing to be effective 4/1/2016; Filing Type: 770.

Filed Date: 4/1/16.

Accession Number: 201604015010.

Comments/Protests Due: 5 p.m. ET 4/22/16.

Docket Number: PR16-44-000.

Applicants: Columbia Gas of Ohio, Inc.

Description: Tariff filing per 284.123(b)(1)/.: COH SOC effective 3-31-2016 to be effective 3/31/2016 under PR16-44 Filing Type: 980.

Filed Date: 4/1/16.

Accession Number: 201604015352.

Comments/Protests Due: 5 p.m. ET 4/22/16.

Docket Number: PR12-20-000.

Applicants: NorthWestern Corporation.

Description: Tariff filing per 284.123(b)(1) + (g): Rate Certification in compliance with Docket Nos. CP11-76-000 & PR12-20-000 to be effective N/A; Filing Type: 1260.

Filed Date: 3/31/2016.

Accession Number: 201603315356.

Comments Due: 5 p.m. ET 4/21/16.

284.123(g) Protests Due: 5 p.m. ET 5/31/16.

Docket Number: PR16-11-001.

Applicants: ONEOK WesTex Transmission, L.L.C.

Description: Tariff filing per 284.123(b), (e), (g): Revised Statement of Operating Conditions Pursuant to Informal Settlement to be effective 1/1/2016; Filing Type: 1270.

Filed Date: 4/6/2016.

Accession Number: 201604065094.

Comments Due: 5 p.m. ET 4/27/16.

284.123(g) Protests Due: 5 p.m. ET 4/27/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 8, 2016.
Nathaniel J. Davis, Sr.,
Deputy Secretary.

[FR Doc. 2016-08609 Filed 4-13-16; 8:45 am]

BILLING CODE 6717-01-P